DEPARTMENT OF COMMERCE

Patent and Trademark Office

Agency Information Collection Activities; Submission to the Office of Management and Budget for Review and Approval; Comment Request; Patents External Quality Survey

AGENCY: United States Patent and Trademark Office, Department of Commerce.

ACTION: Notice of information collection; request for comments.

SUMMARY: The United States Patent and Trademark Office (USPTO), as required by the Paperwork Reduction Act of 1995, invites comments on the extension and revision of an existing information collection: 0651-0057 (Patents External Quality Survey). The purpose of this notice is to allow 60 days for public comments preceding submission of the information collection to the Office of Management and Budget (OMB).

DATES: To ensure consideration, you must submit comments regarding this information collection on or before June 30, 2025.

ADDRESSES: Interested persons are invited to submit written comments by any of the following methods. Do not submit Confidential Business Information or otherwise sensitive or protected information.

• Email: InformationCollection@uspto.gov. Include “0651-0057 comment” in the subject line of the message.

• Federal eRulemaking Portal: http://www.regulations.gov.

• Mail: Justin Isaac, Office of the Chief Administrative Officer, United States Patent and Trademark Office, P.O. Box 1450, Alexandria, VA 22313-1450.

FOR FURTHER INFORMATION CONTACT: Request for additional information should be directed to David Fitzpatrick, Management Analyst, Chief Patent Statistician, United States Patent and Trademark Office, P.O. Box 1450, Alexandria, VA 22313-1450; 571-272-0525; or David.Fitzpatrick@uspto.gov with “0651-0057 comment” in the subject line. Additional information about this information collection is also available at http://www.reginfo.gov under “Information Collection Review.”

SUPPLEMENTARY INFORMATION:

I. Abstract

The USPTO Quality Survey is designed to measure opinions about the services the USPTO provides to its patent application customers. This information collection contains a survey that the USPTO uses to gauge customer satisfaction with patent examination quality.

The results from this voluntary survey will assist the USPTO in guiding improvements and enhancements in the future. The USPTO conducts the Patents External Quality Survey as part of its quality improvement efforts. This survey narrows the focus of customer satisfaction to examination quality and uses a longitudinal, rotating panel design to assess changes in customer perceptions and to identify key areas for examiner training and opportunities for improvement. The USPTO uses this survey to identify problems with examination quality and works to resolve these issues in a timely manner. The USPTO surveys patent agents, attorneys, and other individuals from large domestic corporations (including those with 500+ employees), small and medium-sized businesses, independent inventors, and universities and other non-profit research organizations. This survey does not include foreign entities.

The random sample used in this survey is drawn from One Patent Service Gateway. The sample population is drawn from the top filing firms, which are entities that have filed more than five patent applications in a 12-month period. This ongoing survey is generally conducted twice a year. The USPTO uses a rotating panel design where participants take the survey twice in back-to-back survey periods (waves). Half the participants in each survey period are new and complete the survey for the first time and half return to complete the same survey for a second time. This design allows a precise measurement of changes in customer experience over time. The rotating panels and their impact on respondents are described in more detail in the table below.

Table 1—The Rotating Panel
Panel 1 | Holdover panel from the previous year, respondents are surveyed once in Wave 1.
Panel 2 | Wave 1 and Wave 2 in the current year, respondents are surveyed in both waves.
Panel 3 | New panel in the current year, respondents are only surveyed once in Wave 2.

The Patents External Quality Survey is primarily a web-based survey, although respondents can also complete the survey via paper and mail if they prefer. Both versions are identical. The USPTO sends potential respondents either an email or mailed pre-survey letter, depending on the respondent's preferred method of contact. At the beginning of each survey period, the USPTO provides respondents with instructions for accessing and completing the survey electronically. After a specified response period, the USPTO sends a survey packet to all sample members who have not yet submitted a response. The packet contains the questionnaire, a separate cover letter, and a postage-paid pre-addressed return envelope. Sampled members receiving a paper survey can still complete the survey electronically if they prefer. The USPTO also uses reminder/thank-you postcards and telephone calls to encourage a response from sample members.

II. Method of Collection

The survey may be submitted electronically or in paper form via mail.

III. Data

OMB Control Number: 0651-0057.

Forms:

• PTO/2535 (External Quality Survey)

Type of Review: Extension and revision of a currently approved information collection.

Affected Public: Private sector.

Respondent's Obligation: Voluntary.

Frequency: On occasion.

Estimated Number of Annual Respondents: 750 respondents.

Estimated Number of Annual Responses: 1,000 responses.

Estimated Time per Response: The USPTO estimates that the responses in this information collection will take the public approximately 10 minutes (0.17 hours) to complete. This includes the time to gather the necessary information, create the document, and submit the completed item to the USPTO.

Estimated Total Annual Respondent Burden Hours: 171 hours.

Estimated Total Annual Respondent Hourly Cost Burden: $76,437.

Table 2—Total Burden Hours and Hourly Costs to Private Sector Respondents
Item No. | Item | Estimated annual respondents | Responses per respondent | Estimated annual responses | Estimated time for response (hours) | Estimated burden (hour/year) | Rate ¹ | Estimated annual respondent cost burden
|  | (a) | (b) | (a) × (b) = (c) | (d) | (c) × (d) = (e) | (f) | (e) × (f) = (g)
1 | Patents External Quality Survey (Holdover panel from the previous year, surveyed once in Wave 1) | 250 | 1 | 250 | 0.17 (10 minutes) | 43 | $447 | $19,221
2 | Patents External Quality Survey (Present in Wave 1 and Wave 2 in the current year) | 250 | 2 | 500 | 0.17 (10 minutes) | 85 | 447 | 37,995
3 | Patents External Quality Survey (New panel in the current year, surveyed once in Wave 2) | 250 | 1 | 250 | 0.17 (10 minutes) | 43 | 447 | 19,221
| Totals | 750 |  | 1,000 |  | 171 |  | 76,437

Estimated Total Annual Respondent Non-hourly Cost Burden: $0. There are no capital start-up costs, maintenance costs, recordkeeping costs, filing fees, or postage costs associated with this information collection. The USPTO covers the costs of all survey materials and provides postage-paid, pre-addressed return envelopes for the surveys that are returned by mail.

¹ 2023 Report of the Economic Survey, published by the Committee on Economics of Legal Practice of the American Intellectual Property Law Association; pg. F-41. The USPTO uses the average billing rate for intellectual property work in all firms which is $447 per hour (https://www.aipla.org/home/news-publications/economic-survey).

IV. Request for Comments

The USPTO is soliciting public comments to:

(a) Evaluate whether the collection of information is necessary for the proper performance of the functions of the agency, including whether the information will have practical utility;

(b) Evaluate the accuracy of the agency's estimate of the burden of the collection of information, including the validity of the methodology and assumptions used;

(c) Enhance the quality, utility, and clarity of the information to be collected; and

(d) Minimize the burden of the collection of information on those who are to respond, including through the use of appropriate automated, electronic, mechanical, or other technological collection techniques or other forms of information technology, e.g., permitting electronic submission of responses.

All comments submitted in response to this notice are a matter of public record. The USPTO will include or summarize each comment in the request to OMB to approve this information collection. Before including an address, phone number, email address, or other personally identifiable information (PII) in a comment, be aware that the entire comment—including PII—may be made publicly available at any time. While you may ask in your comment to withhold PII from public view, the USPTO cannot guarantee that it will be able to do so.

Justin Isaac,
Information Collections Officer, Office of the Chief Administrative Officer, United States Patent and Trademark Office.

[FR Doc. 2025-07524 Filed 4-30-25; 8:45 am]

BILLING CODE 3510-16-P